NUCLEAR REGULATORY COMMISSION

[Docket 72-40]

Duke Energy Corporation, Oconee Nuclear Site; Issuance of Environmental Assessment and Finding of No Significant Impact

The U.S. Nuclear Regulatory Commission (NRC or Commission) is considering issuance of an exemption, pursuant to 10 CFR 72.7, from the provisions of 10 CFR 72.212(a)(2) and 72.214 to Duke Energy Corporation (Duke). The requested exemption would allow Duke to store Babcock and Wilcox (B&W) 15x15 spent nuclear fuel assemblies with a nominal width of 8.536 inches in the NUHOMS®-24P storage system at the Oconee Nuclear Site Independent Spent Fuel Storage Installation (ISFSI).

Environmental Assessment (EA)

Identification of Proposed Action: By letter dated June 8, 2001, Duke requested an exemption from the requirements of 10 CFR 72.212(a)(2) and 72.214 to permit storage of B&W 15x15 spent nuclear fuel assemblies with a nominal width of 8.536 inches in the NUHOMS®-24P storage system at the Oconee Nuclear Site ISFSI. Duke is a general licensee, authorized by NRC to use spent fuel storage casks approved under 10 CFR Part 72, Subpart K. Furthermore, Duke is currently using the NUHOMS®-24P storage system design approved by NRC under Certificate of Compliance (CoC) No. 1004 to store spent fuel at the ISFSI.

By exempting Duke from both 10 CFR 72.214 and 72.212(a)(2), Duke will be authorized to use its general license to store B&W 15x15 spent nuclear fuel assemblies with nominal widths of 8.536 inches in casks approved under Part 72, as exempted. The proposed action before the Commission is whether to grant these exemptions under 10 CFR 72.7.

The ISFSI is located 30 miles west of Greenville, South Carolina, on the Oconee Nuclear Power Plant site. The Oconee Nuclear Site ISFSI is an existing facility constructed for interim dry storage of spent nuclear fuel.

On June 8, 2001, Transnuclear West Inc. (TN West), the certificate holder, submitted a revised amendment request for CoC No. 1004 to correct the fuel specification tables; Tables 1-1a and 1-1b of the Technical Specifications (TS) for the Standardized NUHOMS® storage system. The NRC staff will address the proposed changes to the CoC in conjunction with its ongoing review of the amendment request previously submitted by TN West on February 23, 2001. However, the staff's review and final action on that pending amendment request will not be completed on a schedule consistent with Duke's stated need for the Oconee Nuclear Site; thus Duke has requested that an exemption be granted by July 9, 2001.

The proposed change would revise Amendment 2 to CoC No. 1004, which became effective on September 5, 2000. Amendment 2 changed the title of one of the parameters in the fuel specification table, (Table 1-1a of the Technical Specifications), from “Nominal Cross-Sectional Envelope” to “Maximum Assembly Width (unirradiated).” The staff has reviewed the technical and safety bases supporting the approval of Amendment 2 and has determined that the maximum fuel assembly widths are not critical values affecting the basis for the safety analysis. The original certificate and Amendment 1 to CoC No. 1004 approved by the NRC both specified the “nominal” fuel assembly width in the fuel specification table, and the design of the B&W 15x15 fuel has not been altered with respect to that dimension. Amendment 2 approved the storage of higher burnup fuel and burnable poison rod assemblies in the NUHOMS®-24P system, and the fuel specification tables were revised to reflect those changes; however, those changes did not involve any change to the “nominal” fuel assembly width previously accepted by the staff. The NRC staff has reviewed the exemption request and has determined that storing B&W 15x15 spent fuel assemblies with a nominal width of 8.536 inches in the NUHOMS®-24P storage system at the Oconee ISFSI is consistent with the design basis and would not be inimical to public health and safety.

Need for the Proposed Action: Duke has an imminent need to reduce the inventory of spent nuclear fuel assemblies in the spent fuel pool at the Oconee Nuclear Site prior to upcoming refueling activities that require empty fuel pool storage locations. Furthermore, Duke must load additional B&W 15x15 spent fuel assemblies in the Oconee ISFSI to accommodate those planned and potential refueling activities scheduled for late 2001 that require empty spent fuel pool storage locations Because the 10 CFR Part 72 rulemaking to amend the CoC will not be completed prior to the date that Duke needs to begin loading the NUHOMS®-24P with additional B&W 15x15 spent fuel assemblies, the NRC is granting this exemption based on the staff's review of information submitted by Duke and TN West.

Environmental Impacts of the Proposed Action: The potential environmental impact of using the NUHOMS®-24P storage system was initially presented in the Environmental Assessment (EA) for the Final Rule to add the NUHOMS®-24P to the list of approved spent fuel storage casks in 10 CFR 72.214 (59 FR 65898 (1994)). Furthermore, each general licensee must assess the environmental impacts of the specific ISFSI in accordance with the requirements of 10 CFR 72.212(b)(2). This section also requires the general licensee to perform written evaluations to demonstrate compliance with the environmental requirements of 10 CFR 72.104, “Criteria for radioactive materials in effluents and direct radiation from an ISFSI or MRS [Monitored Retrievable Storage Installation].”

The NUHOMS®-24P storage system is designed to mitigate the effects of design basis accidents that could occur during storage. Design basis accidents account for human-induced events and the most severe natural phenomena reported for the site and surrounding area. Postulated accidents analyzed for an ISFSI include tornado winds and tornado generated missiles, design basis earthquake, design basis flood, accidental cask drop, lightning effects, fire, explosions, and other incidents.

Special cask design features of the NUHOMS®-24P storage system include a horizontal canister system composed of a steel dry shielded canister (DSC), a reinforced concrete horizontal storage module (HSM) and a transfer cask (TC). The welded DSC provides confinement and criticality control for the storage and transfer of spent nuclear fuel. The concrete module provides radiation shielding and allows cooling of the DSC and fuel by natural convection during storage. The TC is used for transferring the DSC between the spent fuel pool building and the HSM.

Considering the specific design requirements for each accident condition, the design of the cask would prevent loss of containment, shielding, and criticality control. Without the loss of either containment, shielding, or criticality control, the risk to public health and safety is not compromised.

The staff performed a review of the proposed exemption request and found that the loading of B&W 15x15 spent fuel assemblies with a nominal width as previously specified in the TS does not reduce the safety margin. In addition, the staff has determined that the storage of B&W 15x15 spent fuel assemblies in the NUHOMS®-24P storage system as requested does not pose any increased risk to public health and safety. Furthermore, the proposed action now under consideration would not change the potential environmental effects assessed in the initial rulemaking (59 FR 65898 (1994)).

Therefore, the staff has determined that there is no reduction in the safety margin nor significant environmental impact as a result of storing B&W 15x15 spent fuel assemblies with a nominal width of 8.536 inches in the NUHOMS®-24P storage system at the Oconee Independent Spent Fuel Storage Installation.

Alternative to the Proposed Action: The staff evaluated other alternatives to the transfer of additional B&W 15x15 spent fuel assemblies from the spent fuel pool to the ISFSI and found that these alternatives produced a greater occupational exposure, increased handling and storage costs, and an increased environmental impact as a result of generating additional low-level radioactive waste. The alternative to the proposed action would be to deny approval of the exemption and, therefore, require Duke to conduct refueling activities and subsequent plant operations with limited space available in the spent fuel pool. This lack of space would limit Duke's ability to implement contingency actions, if needed, such as fuel inspection, movement of refueling equipment and full core offload (the temporary removal of all fuel assemblies from the reactor vessel).

Agencies and Persons Consulted: On June 21, 2001, Mr. Henry Porter, Assistant Director of the Division of Waste Management, South Carolina Department of Health and Environmental Control, was contacted about the EA for the proposed action and had no concerns.

Finding of No Significant Impact

The environmental impacts of the proposed action have been reviewed in accordance with the requirements set forth in 10 CFR Part 51. Based upon the foregoing EA, the Commission finds that the proposed action of granting an exemption from 10 CFR 72.212(a)(2) and 72.214 so that Duke may store B&W 15x15 spent nuclear fuel in the NUHOMS®-24P storage system at the Oconee ISFSI will not significantly impact the quality of the human environment. Accordingly, the Commission has determined not to prepare an environmental impact statement for the proposed exemption.

For further details with respect to this exemption request, see the Duke exemption request dated June 8, 2001, which is docketed under 10 CFR part 72, Docket No. 72-40.

The NRC maintains an Agencywide Documents Access and Management System (ADAMS), which provides text and image files of NRC's public documents. These documents may be accessed through the NRC's Public Electronic Reading Room on the Internet at http://www.nrc.gov/NRC/ADAMS/index.html. If you do not have access to ADAMS or if there are problems in accessing the documents located in ADAMS, contact the NRC Public Document Room (PDR) Reference staff at 1-800-397-4209, 301-415-4737 or by email to pdr@nrc.gov.

Dated at Rockville, Maryland, this 29th day of June 2001.
For the Nuclear Regulatory Commission.
E. William Brach,
Director, Spent Fuel Project Office, Office of Nuclear Material Safety and Safeguards.

[FR Doc. 01-16775 Filed 7-3-01; 8:45 am]

BILLING CODE 7590-01-P